FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR 515.

License No. | Name/address | Date reissued
018334N | Continental Logistic Service Inc., 325 W. 131st Street, Los Angeles, CA 90061 | March 31, 2006.
016105N | Thomas M. McGovern dba, Scotia Ocean Services Ltd., 2810 Silver Falls, Kingwood, TX 77339 | January 15, 2006.

Peter J. King,
Deputy Director, Bureau of Certification and Licensing.

[FR Doc. E6-6278 Filed 4-25-06; 8:45 am]

BILLING CODE 6730-01-P